MEDICARE PAYMENT ADVISORY COMMISSION

Commission Meeting

November 30, 2004.

AGENCY: Medicare Payment Advisory Commission.

ACTION: Notice of meeting.

SUMMARY: The Commission will hold its next public meeting on Thursday, December 9, 2004, and Friday, December 10, 2004, at the Ronald Reagan Building, International Trade Center, 1300 Pennsylvania Avenue, NW., Washington, DC. The meeting is tentatively scheduled to begin at 10 a.m. on December 9, and at 8:30 a.m. on December 10.

Topics for discussion include findings on a congressionally mandated study on specialty hospitals; pay for performance for hospitals, physicians, and home health; and incentives for health care information technology adoption. In addition, the Commission will discuss payment adequacy for hospitals, physicians, skilled nursing facilities, home health, and dialysis. Other topics will include imaging, measuring physician resource use, and other changes to physician payment.

Agendas will be e-mailed approximately one week prior to the meeting. The final agenda will be available on the Commission's Web site (http://www.MedPAC.gov).

ADDRESSES: MedPAC's address is: 601 New Jersey Avenue, NW., Suite 9000, Washington, DC 20001. The telephone number is (202) 220-3700.

FOR FURTHER INFORMATION CONTACT: Diane Ellison, Office Manager, (202) 220-3700.

Mark E. Miller,
Executive Director.

[FR Doc. 04-26667 Filed 12-2-04; 8:45 am]

BILLING CODE 6820-BW-M